DEPARTMENT OF STATE

Office of the Secretary

[Delegation of Authority No. 246]

Delegation of Functions Under the Latin American Development Act of 1960 From the Secretary of State to the Administrator of the U.S. Agency for International Development

By virtue of the authority vested in me as Secretary of State, including the State Department Basic Authorities Act and the Presidential Delegation of Responsibilities Related to the Latin American Development Act of 1960 dated May 30, 2001, 66 FR 110, in which the President delegated the functions conferred upon him by the Latin American Development Act of 1960, 22 U.S.C. 1942 et seq., I hereby delegate those functions to the Administrator of the U.S. Agency for International Development.

This delegation shall be published in the Federal Register.

Dated: July 15, 2001.
Colin L. Powell,
Secretary of State.

[FR Doc. 01-20799 Filed 8-16-01; 8:45 am]

BILLING CODE 4710-10-M